DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans, that are final within the meaning of 23 U.S.C. 139(l)(1). The actions relate to a proposed highway project, located on Interstate 80 between post miles 1.9 to 6.1 and on State Route 65 between post miles R4.8 to R7.3 in the County of Placer, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 27, 2017. If the Federal law that authorizes judicial review of a claim provides a time period of less than 150 days for filing such claim, then that shorter time period still applies.

FOR FURTHER INFORMATION CONTACT: For Caltrans: Adele Pommerenck, Senior Environmental Planner, California Department of Transportation—District 3, 703 B Street, Marysville, California, 95901, during normal business hours from 8:00 a.m. to 5:00 p.m., telephone (530) 741-4215 or email adele.pommerenck@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, has taken final agency actions subject to 23 U.S.C. 139(l)(1) by issuing licenses, permits, and approvals for the following highway project in the State of California: improve the Interstate 80/State Route 65 (I-80/SR 65) interchange in Placer County, California, to reduce future traffic congestion, improve operations and safety, and comply with current Caltrans and local agency design standards. The project limits consist of I-80 from the Douglas Boulevard interchange to the Rocklin Road interchange (post miles 1.9-6.1) and SR 65 from the I-80 separation to the Pleasant Grove Boulevard interchange (post miles R4.8-R7.3) in the cities of Roseville and Rocklin. The total length of the project is 2.5 miles along SR 65 and 4.2 miles along I-80. The actions by the Federal agencies, and the laws under which such actions were taken, are described in the Final Environmental Assessment (FEA) for the project, approved on 9/8/16, in the FHWA Finding of No Significant Impact (FONSI) issued on 9/8/16, and in other documents in the FHWA project records. The FEA, FONSI and other project records are available by contacting Caltrans at the addresses provided above. This notice applies to all Federal agency decisions as of the issuance date of this notice and all laws under which such actions were taken, including but not limited to:

1. Council on Environmental Quality Regulations

2. National Environmental Policy Act of 1969, as amended, 42 U.S.C. 4321 et seq.

3. Federal-Aid Highway Act of 1970, 23 U.S.C 109

4. MAP-21, the Moving Ahead for Progress in the 21st Century Act (Pub. L. 112-141)

5. Clean Air Act Amendments of 1990 (CAAA)

6. Clean Water Act of 1977 and 1987

7. Federal Water Pollution Control Act of 1972 (see Clean Water Act of 1977 & 1987)

8. Federal Land Policy and Management Act of 1976 (Paleontological Resources)

9. Noise Control Act of 1972

10. Safe Drinking Water Act of 1944, as amended

11. Endangered Species Act of 1973

12. Executive Order 11990, Protection of Wetlands

13. Executive Order 13112, Invasive Species

14. Executive Order 13186, Migratory Birds

15. Fish and Wildlife Coordination Act of 1934, as amended

16. Migratory Bird Treaty Act

17. Water Bank Act Wetlands Mitigation Banks, ISTEA 1991, Sections 1006-1007

18. Wildflowers, Surface Transportation and Uniform Relocation Act of 1987 Section 130

19. Coastal Zone Management Act of 1972

20. Coastal Zone Management Act Reauthorization Amendments Of 1990

21. Executive Order 11988, Floodplain Management

22. Department of Transportation (DOT) Executive Order 5650.2—Floodplain Management and Protection (April 23, 1979)

23. Rivers and Harbors Appropriation Act of 1899, Sections 9 and 10

24. Title VI of the Civil Rights Act of 1964, as amended

25. Executive Order 12898, Federal Actions to Address Environmental Justice and Low-Income Populations

(Catalog of Federal Domestic Assistance Program Number 20.205, Highway Planning and Construction. The regulations implementing Executive Order 12372 regarding intergovernmental consultation on Federal programs and activities apply to this program.)

Authority: 23 U.S.C. 139(l)(1).

Cesar Perez,
Senior Transportation Engineer, Federal Highway Administration, Sacramento, California.

[FR Doc. 2016-23641 Filed 9-29-16; 8:45 am]

BILLING CODE 4910-RY-P